DEPARTMENT OF HEALTH AND HUMAN SERVICES

Centers for Medicare & Medicaid Services

[Document Identifier: CMS-10615]

Emergency Clearance: Public Information Collection Requirements Submitted to the Office of Management and Budget (OMB)

AGENCY: Centers for Medicare & Medicaid Services, HHS.

ACTION: Notice.

SUMMARY: The Centers for Medicare & Medicaid Services (CMS) is announcing an opportunity for the public to comment on an information collection concerning CMS' Healthy Indiana Program (HIP) 2.0 Beneficiaries Survey. We are also announcing that the proposed information collection had been submitted to OMB and was approved under control number 0938-1300 through September 30, 2016. In accordance with the implementing regulations of the Paperwork Reduction Act of 1995 (PRA) at 5 CFR 1320.13, our information collection request (ICR) was submitted to OMB for emergency processing. We requested emergency review under 5 CFR 1320.13(a)(2)(i) because public harm is reasonably likely to result if the normal clearance procedures were followed.

Following the regular PRA clearance process would jeopardize the timely completion of CMS' evaluation of the State's upcoming non-emergency medical transportation (NEMT) waiver and other important waivers. Most importantly, it would potentially cause significant harm by depriving Medicaid beneficiaries—especially those affected by the NEMT waiver—of appropriate medical services and needed care.

Although we have already received OMB approval to test and develop the survey instruments, we are soliciting public comment during the testing and development phase to meet the conditions of OMB's Terms of Clearance. Importantly, CMS will provide the public with another opportunity to comment, via a 30-day public comment period, prior to the implementation phase of this effort.

Under the PRA, federal agencies are required to publish notice in the Federal Register concerning each proposed ICR. Interested persons are invited to send comments regarding our burden estimates or any other aspect of this ICR, including any of the following subjects: (1) The necessity and utility of the proposed ICR for the proper performance of the agency's functions; (2) the accuracy of the estimated burden; (3) ways to enhance the quality, utility, and clarity of the information to be collected; and (4) the use of automated collection techniques or other forms of information technology to minimize the information collection burden.

DATES: Comments must be received by April 8, 2016.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10615/OMB Control Number 0938-1300, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following ICR. More detailed information can be found in the collection's supporting statement and associated materials (see ADDRESSES).

CMS-10615 Healthy Indiana Program (HIP) 2.0 Beneficiaries Survey

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. In compliance with the requirement of section 3506(c)(2)(A) of the PRA, we submitted to OMB the following requirements for emergency approval. OMB approved the emergency ICR on March 21, 2016, with an expiration date of September 30, 2016.

Information Collection

1. Type of Information Collection Request: New collection (Request for a new OMB control number); Title of Information Collection: Healthy Indiana Program (HIP) 2.0 Beneficiaries Survey; Use: Approval for testing and developing the survey is vital to adequately inform CMS decision making regarding Section 1115 Waivers, in particular the State's upcoming NEMT waiver due for renewal by December 1, 2016. The NEMT benefit provides transportation for Medicaid beneficiaries who otherwise have no means of transportation to get to and from medical services. The Healthy Indiana Program (HIP) 2.0 demonstration provides authority for the State to not offer NEMT for the new adult group during the first year of the demonstration (except for pregnant women and individuals determined to be medically frail). CMS may extend the State's authority, subject to evaluation of the impact of this policy on access to care. Form Number: CMS-10615 (OMB control number: 0938-1300); Frequency: Once; Affected Public: Individuals and households; Number of Respondents: 36; Total Annual Responses: 36; Total Annual Hours: 36. (For policy questions regarding this collection contact Teresa DeCaro at 202-384-6309).

Written comments and recommendations will be considered from the public if received by the date and address noted above.

Dated: March 22, 2016.
William N. Parham, III,
Director, Paperwork Reduction Staff, Office of Strategic Operations and Regulatory Affairs.

[FR Doc. 2016-06828 Filed 3-28-16; 8:45 am]

BILLING CODE 4120-01-P